NATIONAL SCIENCE FOUNDATION

Notice of Intent To Seek Approval To Extend a Current Information Collection

AGENCY: National Science Foundation.

ACTION: Notice and Request for Comments.

SUMMARY: Under the Paperwork Reduction Act of 1995, Public Law 104-13 (44 U.S.C. 3501 et seq.), and as part of its continuing effort to reduce paperwork and respondent burden, the National Science Foundation (NSF) is inviting the general public or other Federal agencies to comment on this proposed continuing information collection. The National Science Foundation (NSF) will publish periodic summaries of the proposed projects.

Comments: Comments are invited on: (a) Whether the proposed collection of information is necessary for the proper performance of the functions of the Foundation, including whether the information will have practical utility; (b) the accuracy of the Foundation's estimate of the burden of the proposed collection of information; (c) ways to enhance the quality, utility, and clarity of the information to be collected; and (d) ways to minimize the burden of the collection of information on those who are to respond, including through the use of automated collection techniques or other forms of information technology.

DATES: Written comments on this notice must be received by July 7, 2008 to be assured consideration. Comments received after that date will be considered to the extent practicable. Send comments to address below.

FOR FURTHER INFORMATION CONTACT: Ms. Suzanne H. Plimpton, Reports Clearance Officer, National Science Foundation, 4201 Wilson Boulevard, Suite 295, Arlington, Virginia 22230; telephone (703) 292-7556; or send e-mail to splimpto@nsf.gov. Individuals who use a telecommunications device for the deaf (TDD) may call the Federal Information Relay Service (FIRS) at 1-800-877-8339 between 8 a.m. and 8 p.m., eastern time, Monday through Friday.

SUPPLEMENTARY INFORMATION: Title of Collection: Survey of Graduate Students and Postdoctorates in Science and Engineering.

OMB Approval Number: 3145-0062.

Expiration Date of Approval: July 31, 2008.

Type of Request: Intent to seek approval to extend an information collection for three years.

1. Abstract

The Survey of Graduate Students and Postdoctorates in Science and Engineering (GSS) is sponsored by the National Science Foundation and the National Institutes of Health. The GSS originated in 1966 and has been conducted annually since 1972. The GSS is a census of all departments in science, engineering and health fields within academic institutions with post-baccalaureate programs in the United States. The total number of respondents surveyed in 2006, the last year for which complete response rate data are available, was 12,321 departments located in 707 schools (reporting units) at 586 degree-granting institutions. The GSS is the only national survey that collects information on the characteristics of graduate enrollment for specific science, engineering and health disciplines at the department level. It collects information on race/ethnicity, citizenship, gender, sources of support, mechanisms of support, and enrollment status for graduate students; and gender, citizenship and sources of support for postdoctorates. It also collects counts by gender of other non-faculty research staff with doctorates.

The National Science Foundation Act of 1950, as subsequently amended, includes a statutory charge to “* * *provide a central clearinghouse for the collection, interpretation, and analysis of data on scientific and engineering resources, and to provide a source of information for policy formulation by other agencies of the Federal Government.” The GSS is designed to comply with these mandates by providing information on the characteristics of academic graduate enrollment and postdoctoral components in science, engineering and health fields.

The GSS (along with other academic sector surveys from both NSF and the National Center of Education Statistics) is one of the inputs into the WebCASPAR data system. Among other uses, this NSF on-line database is used by NSF to review changing enrollment levels to assess the effects of NSF initiatives, to track student support patterns and to analyze participation in S&E fields by targeted groups for all disciplines or for selected disciplines and for selected groups of institutions.

The Foundation also uses the GSS information to prepare congressionally mandated reports such as Women, Minorities and Persons with Disabilities in Science and Engineering and Science and Engineering Indicators. A public use file is also made available on the world-wide Web.

Data are obtained primarily by Web survey (with paper worksheets made available upon request) and starts each fall in mid-October. The data are solicited under the authority of the National Science Foundation Act of 1950, as amended. All information will be used for statistical purposes only. Participation in the survey is voluntary.

2. Expected Respondents

The GSS is census of all eligible academic institutions in the U.S. with post-baccalaureate programs in science, engineering and health fields and their related departments. The response rate is calculated on the number of departments that respond to the survey.

3. Estimate of Burden

The initial GSS data request is sent to the designated respondent (School Coordinator) at each academic institution in the fall. The School Coordinator may complete or delegate all or part of forms 811 (listing of eligible departments, programs, research centers and health care facilities) and 812 (data collection form). In all cases, the School Coordinator is responsible for the Form 811. Usually, the School Coordinator delegates the Form 812 to departmental respondents. The amount of time it takes to provide the information on Forms 811 and 812 varies dramatically and depends to a large degree on the extent to which the school's records are centrally stored and computerized.

The 2007 GSS asked the School Coordinators to provide an estimate of the time spent in filling out Form 811 and the department respondents to estimate the time spent completing Form 812. The School Coordinators estimated the burden for completing Form 811 as 4.13 hours per school and the department respondents estimated 2.07 hours per department for completing Form 812. Using the 2007 estimates for the time required for the two forms and using the current 2007 number of schools (700) and departments (12,671) and assuming the same response rates as 2006 (96% for the schools and 97% for the departments), the total estimated respondent burden of the GSS would be 28,217 hours annually, for a total of 84,652 hours over the 3-year clearance period.

Dated: April 30, 2008.
Suzanne H. Plimpton,
Reports Clearance Officer, National Science Foundation.

[FR Doc. E8-9783 Filed 5-2-08; 8:45 am]

BILLING CODE 7555-01-P